INTERNATIONAL TRADE COMMISSION

[Investigation Nos. 701-TA-626 and 731-TA-1452 (Final)]

Certain Collated Steel Staples From China

Determinations

On the basis of the record ¹ developed in the subject investigations, the United States International Trade Commission (“Commission”) determines, pursuant to the Tariff Act of 1930 (“the Act”), that an industry in the United States is materially injured by reason of imports of certain collated steel staples from China, provided for in subheading 8305.20.0000 of the Harmonized Tariff Schedule of the United States, that have been found by the U.S. Department of Commerce (“Commerce”) to be sold in the United States at less than fair value (“LTFV”), and to be subsidized by the government of China.²

¹ The record is defined in sec. 207.2(f) of the Commission's Rules of Practice and Procedure (19 CFR 207.2(f)).

² The Commission also finds that imports subject to Commerce's affirmative critical circumstances determination are not likely to undermine seriously the remedial effect of the countervailing and antidumping duty orders on certain collated steel staples from China.

Background

The Commission instituted these investigations effective June 6, 2019, following receipt of petitions filed with the Commission and Commerce by Kyocera Senco Industrial Tools, Inc. (“Senco”), Cincinnati, Ohio. The final phase of the investigations was scheduled by the Commission following notification of preliminary determinations by Commerce that imports of certain collated steel staples from China were subsidized within the meaning of section 703(b) of the Act (19 U.S.C. 1671b(b)) and sold at LTFV within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on January 21, 2020 (85 FR 3417). In light of the restrictions on access to the Commission building due to the COVID-19 pandemic, and in accordance with 19 U.S.C. 1677c(a)(1), the Commission conducted its hearing via video conference on May 27, 2020; all persons who requested the opportunity were permitted to participate.

The Commission made these determinations pursuant to sections 705(b) and 735(b) of the Act (19 U.S.C. 1671d(b) and 19 U.S.C. 1673d(b)). It completed and filed its determinations in these investigations on July 13, 2020. The views of the Commission are contained in USITC Publication 5085 (July 2020), entitled Certain Collated Steel Staples from China: Investigation Nos. 701-TA-626 and 731-TA-1452 (Final).

By order of the Commission.
Issued: July 13, 2020.
Lisa Barton,
Secretary to the Commission.

[FR Doc. 2020-15457 Filed 7-16-20; 8:45 am]

BILLING CODE 7020-02-P